DEPARTMENT OF ENERGY

Federal Energy Regulatory Commission

[Docket No. PR01-7-000]

Transok, LLC; Notice of Petition for Rate Approval

February 6, 2001.

Take notice that on January 22, 2001, Transok, LLC (Transok) filed a Petition for Rate Approval (Petition) pursuant to section 284.123(b)(2) of the Commission's regulations. Transok seeks to modify its fuel tracker for its Oklahoma Transmission System to take account of changes in the price of natural gas from one year to the next. Transok proposes to do this by comparing the cost of gas under or over collected in the base year to the projected cost of gas in the succeeding year, as measured by the average of the monthly NYMEX contracts for delivery at the Henry Hub. Transok seeks an effective date of February 1, 2001 for the revised tracker and fuel percentage.

Pursuant to section 284.123(b)(2)(ii) of the Commission's regulations, if the Commission does not act within 150 days of the Petition's filing date, the rates proposed therein will be deemed to be fair and equitable and not in excess of an amount that interstate pipelines would be permitted to charge for similar services. The Commission may, prior to the expiration of the 150-day period, extend the time for action or institute a proceeding.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before February 22, 2001. This petition for rate approval is on file with the Commission and is available for public inspection. This filing may be viewed on the web at http://www.ferc.fed.us/online/rims.htm (call 202-208-2222 for assistance). Comments and protests may be filed electronically via the internet in lieu of paper. See, 18 CFR 385.2001 (a)(1)(iii) and the instruction on the Commission's web site at http://www.ferc.fed.us.efi/doorbell.htm.

David P. Boergers,
Secretary.

[FR Doc. 01-3438 Filed 2-9-01; 8:45 am]

BILLING CODE 6717-01-M